SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget, Attn: Desk Officer for SSA, Fax: 202-395-6974, E-mail address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than May 31, 2011. Individuals can obtain copies of the collection instruments by calling the SSA Reports Clearance Officer at 410-965-8783 or by writing to the above e-mail address.

Representative Payee Report-Adult, Representative Payee Report-Child, Representative Payee Report-Organizational Representative Payees—20 CFR 404.635, 404.2035, 404.2065, and 416.665—0960-0068. When SSA determines it is not in an Old Age Survivors and Disability Insurance (OASDI) or Supplemental Security Income (SSI) recipient's best interest to receive Social Security payments directly, the agency will designate a representative payee for the recipient. The representative payee can be (1) A family member; (2) a non-family member who is a private citizen and is acquainted with the beneficiary; (3) an organization; (4) a state or local government agency; or (5) a business. In this capacity, the person or organization receives the SSA recipient's payments directly and manages these payments. As part of its stewardship mandate, SSA must ensure the representative payees are properly using the payments they receive for the recipients they represent. The agency annually collects the information necessary to make this assessment using the SSA-623—Representative Payee Report—Adult, SSA-6230—Representative Payee Report—Child (, SSA-6234—Representative Payee Report—Organizational Representative Payees), and through the electronic internet application Internet Representative Payee Accounting (iRPA). The respondents are representative payees of OASDI and SSI recipients.

Type of Request: Revision to an OMB-approved information collection.

Form No. | Number of respondents | Frequency of response | Average burden per response (minutes) | Total annual burden (hours)
SSA-623 | 2,378,400 | 1 | 15 | 594,600
SSA-6230 | 2,875,900 | 1 | 15 | 718,975
SSA-6234 | 702,100 | 1 | 15 | 175,525
iRPA* | 652,500 | 1 | 15 | 163,125
Totals | 6,608,900 |  |  | 1,652,225

II. SSA submitted the information collections listed below to OMB for clearance. Your comments on the information collections would be most useful if OMB and SSA receive them within 30 days from the date of this publication. To be sure we consider your comments, we must receive them no later than May 2, 2011. You can obtain a copy of the OMB clearance package by calling the SSA Reports Clearance Officer at 410-965-8783 or by writing to the above e-mail address.

1. Petition To Obtain Approval of a Fee for Representing a Claimant Before the SSA— 20 CFR 404.1720 and 404.1725; 20 CFR 416.1520 and 416.1525—0960-0104. A Social Security claimant's representative, whether an attorney or a non-attorney, uses Form SSA-1560-U4 to petition SSA for authorization to charge and collect a fee. A claimant may also use the form to agree or disagree with the requested fee amount or other information the representative provides on the form. The SSA official responsible for setting the fee uses the information from the form to determine a reasonable fee amount representatives may charge for their services. The respondents are attorneys and non-attorneys who represent Social Security claimants.

Type of Request: Revision of an OMB-approved information collection.

Number of Respondents: 48,110.

Frequency of Response: 1.

Average Burden per Response: 30 minutes.

Estimated Annual Burden: 24,055 hours

2. Questionnaire for Children Claiming SSI Benefits—0960-0499. Section 1631(d)(2) of the Social Security Act gives the agency the authority to collect information needed to determine the validity of an applicant's claim for SSI benefits. Section 20 CFR 416.912(a) of the Code of Federal Regulations states an applicant must furnish medical and other evidence SSA can use to reach conclusions about a child's medical condition. Parents or legal guardians use the SSA-3881-BK to provide SSA with the names and addresses of non-medical sources such as schools, counselors, agencies, organizations, or therapists who would have information about a child's functioning. SSA uses this information to help determine a child's eligibility or continuing eligibility for SSI when conducting a continuing disability review or in the appeals process. The respondents are applicants who appeal SSI childhood disability decisions or recipients undergoing a continuing disability review. This is a correction notice: SSA published this information collection as an extension on January 28, 2011 at 76 FR 5233. Since we are revising the Privacy Act Statement, this is now a revision of an OMB-approved information collection.

Type of Request: Revision of an OMB-approved information collection.

Number of Respondents: 253,000.

Frequency of Response: 1.

Average Burden per Response: 30 minutes.

Estimated Annual Burden: 126,500 hours.

3. Electronic Benefit Verification Information (BEVE)—20 CFR 401.40—0960-0595. The electronic proof of income (POI) verification Internet service, BEVE, provides SSI recipients, Social Security beneficiaries, and Medicare beneficiaries the convenience of requesting a POI statement through the Internet. Beneficiaries and SSI recipients often require POI to obtain housing, food stamps, or other public services. After verifying the requester's identity, SSA uses the information from BEVE to provide the POI statement. The respondents are Social Security beneficiaries, Medicare beneficiaries, and SSI recipients.

Type of Request: Revision of an OMB-approved information collection.

Number of Respondents: 870,958.

Frequency of Response: 1.

Average Burden per Response: 5 minutes.

Estimated Annual Burden: 72,580 hours.

Dated: March 25, 2011.
Liz Davidson,
Center Director, Center for Reports Clearance, Social Security Administration.

[FR Doc. 2011-7503 Filed 3-30-11; 8:45 am]

BILLING CODE 4191-02-P